DEPARTMENT OF COMMERCE

International Trade Administration; BISNIS Finance Link

ACTION: Proposed collection; comment request.

SUMMARY: The Department of Commerce, as part of its continuing effort to reduce paperwork and respondent burdens, invites the general public and other Federal agencies to take this opportunity to comment on the continuing information collections, as required by the Paperwork Reduction Act of 1995, Public Law 104-13 (44 U.S.C. 3506 (c)(2)(A)).

DATES: Written comments must be submitted on or before August 30, 2004.

ADDRESSES: Direct all written comments to Diana Hynek, Departmental Paperwork, Clearance Officer, Department of Commerce, Room 6625, 14th & Constitution Avenue, NW., Washington, DC 20230 (or via the Internet at dHynek@doc.gov).

FOR FURTHER INFORMATION CONTACT: Request for additional information or copies of the information collection instrument and instructions should be directed to: William Franklin, Office of Finance, Room 1800A, U.S. Department of Commerce, 14th and Constitution Ave., NW., Washington, DC 20230; Phone Number: (202) 482-3277.

SUPPLEMENTARY INFORMATION:

I. Abstract

The International Trade Administration's Business Information Service for the Newly Independent States (BISNIS) offers business intelligence and counseling to U.S. companies seeking to export or invest in the countries of the former Soviet Union. One of the essential components of BISNIS's services is assisting companies in locating suitable financing for exports. Often, official sources, such as the Export-Import Bank of the United States, cannot handle all the requests for a variety of reasons. FinanceLink is an Internet-based service that facilitates contacts between exporters and finance providers. Exporters fill out a form giving relevant details about the desired transaction and submit it via the internet to BISNIS. BISNIS will in turn distribute the information collected to potential finance providers. This program is designed to implement the Department of Commerce's goal of improving access to trade financing for small business exporters, specifically in the more challenging market of the former Soviet Union.

II. Method of Collection

The information is collected via the Internet at: http://www.bisnis.doc.gov/bisnis/finlin3.cfm.

III. Data

OMB Number: XXXX-XXXX

Form Number: ITA-XX.

Type of Review: Regular Submission.

Affected Public: Business or other for-profit.

Estimated Number of Respondents: 200.

Estimated Time Per Response: 10 minutes.

Estimated total Annual Burden Hours: 33 hours.

Estimated Total Annual Costs: $0.

IV. Request for Comments

Comments are invited on (a) whether the proposed collection of information is necessary for the proper performance of the functions of the agency, including whether the information shall have practical utility; (b) the accuracy of the agency's estimate of the burden (including hours and costs) of the proposed collection information; (c) ways to enhance the quality, utility, and clarity of the information to be collected; (d) ways to minimize the burden of the collection of information on respondents, including through the use of automated collection techniques or forms of information technology.

Comments submitted in response to this notice will be summarized and/or included in the request for OMB approval of this information collection; they also will become a matter of public record.

Dated: June 25, 2004.
Madeleine Clayton,
Management Analyst, Office of the Chief Information Officer.

[FR Doc. 04-14836 Filed 6-29-04; 8:45 am]

BILLING CODE 3510-DA-P